DEPARTMENT OF THE INTERIOR

Bureau of Land Management

[LLCAC01000 L10100000.XZ0000 15XL1109AF LXSIOVHD0000]

Notice of Public Meeting of the Central California Resource Advisory Council

AGENCY: Bureau of Land Management, Interior.

ACTION: Notice of Public Meeting.

SUMMARY: In accordance with the Federal Land Policy and Management Act and the Federal Advisory Committee Act of 1972, the U.S. Department of the Interior, Bureau of Land Management (BLM) Central California Resource Advisory Council (RAC) will meet as indicated below.

DATES: Business meetings will be held Thursday and Friday, April 23-24, 2015, at the BLM Mother Lode Field Office, 5152 Hillsdale Circle, El Dorado Hills, CA. Members of the public are welcome to attend.

On April 23, the RAC will meet from noon to 6 p.m. On April 24, the RAC will meet from 8 a.m. to 11 a.m. Time for public comment is reserved from 9 a.m. to 10 a.m. on April 24.

FOR FURTHER INFORMATION CONTACT: BLM Central California District Manager Este Stifel, (916) 978-4626; or BLM Public Affairs Officer David Christy, (916) 941-3146.

SUPPLEMENTARY INFORMATION: The 12-member council advises the Secretary of the Interior, through the BLM, on a variety of planning and management issues associated with public land management in the Central California District, which includes the Bishop, Bakersfield, Hollister, Ukiah and Mother Lode Field Offices. At this meeting, agenda topics will include an update on resource management issues by the Field Managers including Lake Berryessa, Coast Dairies, Point Arena and oil and gas. Additional ongoing business will be discussed by the council. All meetings are open to the public. Members of the public may present written comments to the council. Each formal council meeting will have time allocated for public comments. Depending on the number of persons wishing to speak, and the time available, the time for individual comments may be limited. The meeting is open to the public. Individuals who plan to attend and need special assistance, such as sign language interpretation and other reasonable accommodations, should contact the BLM as provided above.

Dated: March 31, 2015.
Ruben Leal,
Associate District Manager.

[FR Doc. 2015-08254 Filed 4-9-15; 8:45 am]

BILLING CODE 4310-40-P